DEPARTMENT OF ENERGY

Federal Energy Regulatory Commission

[Docket No. CP26-20-000]

Columbia Gas Transmission, LLC; Notice of Schedule for the Preparation of an Environmental Assessment for the Southeast Virginia Energy Storage Project

On November 13, 2025, Columbia Gas Transmission, LLC (Columbia) filed an application in Docket No. CP26-20-000 requesting a Certificate of Public Convenience and Necessity pursuant to Section 7(c) of the Natural Gas Act to construct and operate certain natural gas pipeline facilities. The proposed project is known as the Southeast Virginia Energy Storage Project (Project), consisting of a new energy storage facility that upon completion would provide up to 1,100,000 dekatherms per day of commercial natural gas storage capacity in Sussex County, Virginia.

On November 24, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1769775072.

Schedule for Environmental Review

Issuance of EA—July 17, 2026

90-day Federal Authorization Decision Deadline ²—October 15, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia proposes to construct and operate the new Waverly Energy Storage Facility comprised of the following facilities in Sussex County, Virginia: a new 1.3 billion cubic feet liquified natural gas storage (LNG) storage tank; associated liquefaction and vaporization facilities; approximately 5,398 feet of 12-inch-diameter natural gas pipeline connecting to Columbia's existing VM-107 and VM-108 pipelines; and other appurtenant facilities on the site. The new Waverly Energy Storage Facility would be constructed on 22.5 acres of land within a 700-acre parcel recently purchased by Columbia.

Background

On January 13, 2026, the Commission issued a Notice of Scoping Period Requesting Comments on Environmental Issues for the Proposed Southeast Virginia Energy Storage Project and Notice of Public Scoping Session (Notice of Scoping). The Notice of Scoping was sent to affected landowners; federal, state, and local government agencies; elected officials; environmental and public interest groups; Native American tribes; other interested parties; and local libraries and newspapers. In response, the Commission received comments from the Virginia Chamber of Commerce, Virginia Natural Gas, Inc., and Virginia State Senator Emily M. Jordan, the Newport News Shipbuilding, the Hampton Roads Chamber of Commerce, an adjacent landowner, and the Hampton Roads Military and Federal Facilities Alliance in support of the Project. The Viginia Department of Environmental Quality provided comments concerning the state's role in the NEPA process. All substantive comments will be addressed in the EA.

The U.S. Department of Transportation's Pipeline and Hazardous Materials Safety Administration is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-20-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: February 20, 2026.
Debbie-Anne A. Reese,
Secretary.

[FR Doc. 2026-03787 Filed 2-24-26; 8:45 am]

BILLING CODE 6717-01-P